NATIONAL SCIENCE FOUNDATION

Agency Information Collection Activities: Submission for OMB Review; Comment Request

AGENCY: National Science Foundation.

ACTION: Submission for OMB Review; Comment Request.

The National Science Foundation (NSF) has submitted the following information collection requirement to OMB for review and clearance under the Paperwork Reduction Act of 1995, Public Law 104-13. This is the second notice for public comment; the first was published in the Federal Register at 77 FR 74516 and no comments were received. NSF is forwarding the proposed renewal submission to the Office of Management and Budget (OMB) for clearance simultaneously with the publication of this second notice. The full submission may be found at: http://www.reginfo.gov/public/do/PRAMain.

Comments: Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street NW., Room 10235, Washington, DC 20503, and to Suzanne H. Plimpton, Reports Clearance Officer, National Science Foundation, 4201 Wilson Boulevard, Suite 295, Arlington, Virginia 22230 or send email to splimpto@nsf.gov. Comments regarding these information collections are best assured of having their full effect if received within 30 days of this notification. Copies of the submission(s) may be obtained by calling 703-292-7556. Individuals who use a telecommunications device for the deaf (TDD) may call the Federal Information Relay Service (FIRS) at 1-800-877-8339, which is accessible 24 hours a day, 7 days a week, 365 days a year (including federal holidays).

Title: Program Evaluation of the Scholarships in Science, Technology, Engineering, and Mathematics (S-STEM) Program

OMB Approval Number: 3145-NEW

Overview of this information collection:

The National Science Foundation (NSF) is supporting an evaluation of the Scholarships in Science, Technology, Engineering, and Mathematics (S-STEM) Program, which operates within NSF's Division of Undergraduate Education. The evaluation will include surveys of principal investigators, surveys of a sample of S-STEM scholarship recipients, and focus groups and interviews with project personnel and students during site visits to S-STEM awardee institutions. The S-STEM Program awards grants to a geographically diverse set of two- and four-year institutions of higher education (IHEs) that then provide scholarships for academically talented students, in science and engineering disciplines, who have demonstrated financial need. The institutions also provide resources and support services to assist students in becoming and/or remaining engaged in science and engineering through to the successful attainment of associate, baccalaureate, or graduate-level degrees. Funding for the S-STEM Program comes from H-1B VISAs, funding which was reauthorized in FY 2005 through Public Law 108-447. NSF is committed to providing stakeholders with information regarding the expenditures of taxpayer funds. The evaluation of the S-STEM Program will explore the strategies, practices, and characteristics of the implementation of exemplary S-STEM awardees; investigate S-STEM Program outcomes related to awarding scholarships to talented STEM students with demonstrated financial need; and investigate institutional-related outcomes of S-STEM grantees. If NSF cannot collect information from S-STEM participants, NSF will have no other means to consistently document the outcomes, strategies, and experiences related to the program.

Consult With Other Agencies & the Public

NSF has not consulted with other agencies. However, the contractor conducting the evaluation has gathered information from an external evaluation group of subject matter experts on the study design and data collection plan. A request for public comments will be solicited through announcement of data collection in the Federal Register.

Background

The evaluation will involve data from extant sources, web surveys and site visits. OMB approval is being sought for the new data that will be collected for the study. Primary data sources will include web surveys of S-STEM Program Principal Investigators (PIs) and S-STEM scholarship recipients and in-depth interviews or focus groups with a series of respondents during site visits to a subset of awardee institutions.

Respondents: Individuals (Principal Investigators, S-STEM scholarship recipients, other campus officials involved in the S-STEM program).

Number of Respondents: 8,907

Average Time per Response: 24 minutes

Burden on the Public: 3,563 total hours

Dated: June 18, 2013.
Suzanne H. Plimpton,
Reports Clearance Officer, National Science Foundation.

[FR Doc. 2013-14843 Filed 6-20-13; 8:45 am]

BILLING CODE 7555-01-P